DEPARTMENT OF LABOR

Employment and Training Administration

[TA-W-53,989]

Wellington Die Division, a Subsidiary of Shiloh Industries, Inc., Wellington, Ohio; Notice of Termination of Investigation

Pursuant to Section 221 of the Trade Act of 1974, as amended, an investigation was initiated on January 12, 2004, in response to a petition filed on behalf of workers at Wellington Die Division, a subsidiary of Shiloh Industries, Inc., Wellington, Ohio.

All workers were separated from the subject firm more than one year before the date of the petition. Section 223(b) of the Act specifies that no certification may apply to any worker whose last separation occurred more than one year before the date of the petition. Consequently, further investigation in this case would serve no purpose, and the investigation has been terminated.

Signed at Washington, DC, this 16th day of January, 2004.
Linda G. Poole,
Certifying Officer, Division of Trade Adjustment Assistance.

[FR Doc. 04-3004 Filed 2-10-04; 8:45 am]

BILLING CODE 4510-30-U